DEPARTMENT OF COMMERCE

International Trade Administration

[A-583-816]

Certain Stainless Steel Butt-Weld Pipe Fittings From Taiwan: Final Results of Antidumping Duty Administrative Review

AGENCY: Import Administration, International Trade Administration, Department of Commerce.

ACTION: Notice of final results in the antidumping duty administrative review of certain stainless steel butt-weld pipe fittings from Taiwan and intent not to revoke in part.

SUMMARY: On July 6, 2000, the Department of Commerce (“Department”) published the preliminary results of the administrative review of the antidumping duty order on certain stainless steel butt-weld pipe fittings from Taiwan. This review covers one manufacturer/exporter of the subject merchandise. The period of review (“POR”) is June 1, 1998 through May 31, 1999.

We gave interested parties an opportunity to comment on the preliminary results. Based upon our verification of the data and analysis of the comments received, we have made changes in the margin calculation. Therefore, the final results differ from the preliminary results of this review. The final weighted-average dumping margin is listed below in the section titled “Final Results of the Review.”

EFFECTIVE DATE: December 27, 2000.

FOR FURTHER INFORMATION CONTACT: Jim Doyle or Alex Villanueva, Enforcement Group III, Office 9, Import Administration, International Trade Administration, U.S. Department of Commerce, 1401 Constitution Avenue, NW., Washington, DC 20230, telephone 202-482-0159 (Doyle) or 202-482-6412 (Villanueva), fax 202-482-1388.

SUPPLEMENTARY INFORMATION:

Applicable Statute

Unless otherwise indicated, all citations to the Tariff Act of 1930 (“Act”) are references to the provisions effective January 1, 1995, the effective date of the amendments made to the Act by the Uruguay Round Agreements Act (“URAA”). In addition, unless otherwise indicated, all citations to the Department's regulations are to the regulations at 19 CFR Part 351 (1999).

Background

On June 16, 1993, the Department published the antidumping duty order on certain stainless steel butt-weld pipe fittings from Taiwan. See Certain Welded Stainless Steel Butt-Weld Pipe Fittings From Taiwan: Final Determination and Antidumping Order, 58 FR 33250 (June 16, 1993). On June 9, 1999, the Department published a notice of opportunity to request administrative review of this order for the period June 1, 1998 through May 31, 1999. See Antidumping or Countervailing Duty Order, Finding, or Suspended Investigation; Opportunity to Request Administrative Review, 64 FR 30962 (June 9, 1999). Both Ta Chen Stainless Steel Pipe Co., Ltd. (“Ta Chen”), a Taiwan producer and exporter of subject merchandise, and Petitioners, Markovitz Enterprises, Inc. (Flowline Division), Alloy Piping Products, Inc., Gerlin, Inc., and Taylor Forge, (collectively “Petitioners”), timely requested that the Department conduct an administrative review of Ta Chen's sales. On July 29, 1999, in accordance with section 751(a) of the Act, the Department published in the Federal Register a notice of initiation of this antidumping duty administrative review for the period June 1, 1998 through May 31, 1999. See Initiation of Antidumping and Countervailing Duty Administrative Review and requests for revocation in part, 64 FR 41075 (July 29, 1999). On July 6, 2000, the Department published the preliminary results of the administrative review in the Federal Register. See Certain Stainless Steel Butt-Weld Pipe Fittings from Taiwan: Preliminary Results of Antidumping Duty Administrative Review and Intent to Not Revoke in Part, 65 FR 41629 (July 6, 2000) (“Preliminary Results”). On September 11, 2000 through September 15, 2000, the Department conducted verification of Ta Chen's home market data at Ta Chen's headquarters in Tainan, Taiwan. On September 16, 2000 through September 17, 2000, the Department conducted verification of Ta Chen's U.S. sales data at the Long Beach, California office of Ta Chen's U.S. affiliate, Ta Chen International Corp. (“TCI”). We gave interested parties an opportunity to comment on our Preliminary Results. Ta Chen and Petitioners filed briefs on October 16, 2000. On October 18, 2000, Ta Chen and Petitioners filed rebuttal briefs. No hearing was requested or held. The date for issuing the final results of the review was November 3, 2000. In order to provide parties an opportunity to comment on the issue of reimbursement, which arose late in the proceeding, the Department extended the time limit for the final results by 42 days in accordance with section 751 (a)(3) of the Act. See November 3, 2000 memorandum from Edward Yang to Joseph Spetrini: Extension of Time Limit for the Administrative Review of Certain Stainless Steel Butt-Weld Pipe Fittings from Taiwan. Accordingly, on November 9, 2000, the Department published a notice of postponement of the final results of antidumping duty administrative review in the Federal Register. See Certain Stainless Steel Butt-Weld Pipe Fittings from Taiwan: Notice of Postponement of Final Results of Antidumping Duty Adminstrative Review, 65 FR 67348 (November 9, 2000). The date for issuing the final results was moved from November 3, 2000 to December 15, 2000. Interested parties were provided an opportunity to comment on the issue of reimbursement. On November 20, 2000 and again on November 30, 2000 the Department received comments from counsel for respondents and petitioners. The Department has conducted and completed the administrative review in accordance with section 751 of the Act.

Scope of the Review

The merchandise subject to this administrative review is certain stainless steel butt-weld pipe fittings (“SSBWPF”) whether finished or unfinished, under 14 inches inside diameter. Certain SSBWPF are used to connect pipe sections in piping systems where conditions require welded connections. The subject merchandise is used where one or more of the following conditions is a factor in designing the piping system: (1) Corrosion of the piping system will occur if material other than stainless steel is used; (2) contamination of the material in the system by the system itself must be prevented; (3) high temperatures are present; (4) extreme low temperatures are present; and (5) high pressures are contained within the system.

Pipe fittings come in a variety of shapes, with the following five shapes the most basic: “elbows”, “tees”, “reducers”, “stub-ends”, and “caps.” The edges of finished pipe fittings are beveled. Threaded, grooved, and bolted fittings are excluded from this review. The pipe fittings subject to this review are classifiable under subheading 7307.23.00 of the Harmonized Tariff Schedule of the United States (“HTSUS”).

Although the HTSUS subheading is provided for convenience and customs purposes, our written description of the scope of the review is dispositive. Pipe fittings manufactured to American Society of Testing and Materials specification A774 are included in the scope of this order.

Analysis of Comments Received

All issues raised in the case briefs, as well as the Department's findings, in this administrative review are addressed in the Issues and Decision Memorandum for the Administrative Review of Certain Stainless Steel Butt-Weld Pipe Fittings from Taiwan: June 1, 1998, through May 31, 1999 (“Decision Memorandum”), from Joseph A. Spetrini, Deputy Assistant Secretary, Import Administration, to Troy H. Cribb, Assistant Secretary for Import Administration (December 15, 2000), which is hereby adopted by this notice. A list of the issues raised and to which we have responded, all of which are in the Decision Memorandum, and a list of our changes, is attached to this notice as an Appendix. Parties can find a complete discussion of all issues raised in this review and the corresponding recommendations in this public memorandum which is on file at the U.S. Department of Commerce, in the Central Records Unit, in room B-099. In addition, a complete version of the Decision Memorandum can be accessed directly on the Web at http://www.ita.doc.gov/import_admin/records/frn. The paper copy and electronic version of the public version of the Decision Memorandum are identical in content.

Sales Below Cost in the Home Market

As discussed in more detail in the Preliminary Results, the Department disregarded home market below-cost sales that failed the cost test in the final results of review.

Level of Trade

As discussed in more detail in the Preliminary Results, the Department determined that all sales in the home market and the U.S. market were made at the same level of trade. Therefore, we have not made a level of trade adjustment because all price comparisons are at the same level of trade and an adjustment pursuant to section 773(a)(7)(A) of the Act is not appropriate.

Request for Revocation

Under section 351.222(b) of the Department's regulations, the Department may partially revoke an order with respect to a company if that producer or exporter has sold the merchandise at not less than normal value for a period of at least three consecutive years and it is not likely that the producer or exporter will sell subject merchandise at less than normal value in the future. On June 30, 1999, Ta Chen submitted a request, in accordance with 19 CFR 351.222(e), that the Department revoke the antidumping duty order on SSBWPF from Taiwan with respect to Ta Chen. In accordance with 19 CFR 351.222(e)(1), Ta Chen stated that it sold the subject merchandise at not less than normal value for a period of at least three years, including the current period under administrative review, and that it sold the subject merchandise in commercially significant quantities to the United States during each of these three years. Ta Chen also stated that it would not sell the subject merchandise at less than normal value to the United States in the future and agreed to reinstatement of the order against Ta Chen, as long as any exporter or producer is subject to the order, if the Department concludes that Ta Chen sold the subject merchandise at less than normal value, subsequent to the revocation.

On May 26, 2000, the Department requested that Ta Chen provide volume and value data on its exports and sales of subject merchandise for the past three consecutive years. Ta Chen provided data in a June 5, 2000 submission.

The three review periods on which Ta Chen is basing its request for revocation consist of: (1) The period for 6/1/96 through 5/31/97, for which the Department found a de minimis margin of 0.34 percent; (2) the period for ­6/1/97 through 5/31/98, for which no administrative review was conducted; and (3) the period for 6/1/98 through ­5/31/99, for which the Department is currently conducting an administrative review.

The Department considered Ta Chen's request for revocation and reviewed the relevant information. Because we did not find a de minimis margin for the final results, we conclude that the criteria for revocation have not been satisfied, and we are not revoking the order with regard to Ta Chen.

Changes Since the Preliminary Results

Based on our verification and analysis of the comments received, we have made certain changes in the margin calculation, as discussed in the Decision Memorandum, accessible in B-099. The public version of this Decision Memorandum is also available on the Web at http://www.ita.doc.gov/import_admin/records/frn. In addition, we have corrected certain clerical errors in the margin calculation: (1) The incorrect formatting of the U.S. sales' date of entry (computer variable ENTRYDTU); and (2) an incorrect definition of constructed export price sales in the model match program as being sales within the window period (instead of within the POR).

Reimbursement

As a result of the Sales and Cost Verification of Ta Chen and TCI on September 11, 2000 through September 19, 2000 and the submissions leading to verification, the Department has applied 19 CFR 351.402(f)(1)(i)(B), which states that “in calculating the export price (or constructed export price), the Secretary will deduct the amount of any antidumping duty or countervailing duty, which the exporter or producer * * * reimbursed to the importer.” See Decision Memorandum at “Changes since the Preliminary Results.” Therefore, based on our findings of reimbursement of antidumping duties by Ta Chen to TCI in this administrative review, we have determined that the dumping margin should be doubled.

Final Results of the Review

We determine that the following percentage weighted-average margin exists for the period June 1, 1998 through May 31, 1999 (this margin has been doubled to reflect the Department's reimbursement determination):

Certain Welded Stainless Steel Pipe
Producer/Manufacturer/Exporter | Weighted-average margin (percent)
Ta Chen | 12.84

The Department shall determine, and the U.S. Customs Service (“Customs”) shall assess, antidumping duties on all appropriate entries. In accordance with 19 CFR 351.212(b), we have calculated exporter/importer-specific assessment rates. With respect to the constructed export price sales, we divided the total dumping margins for the reviewed sales by the total entered value of those reviewed sales for each importer. We will direct Customs to assess any resulting non-de minimis percentage margins against the entered Customs values for the subject merchandise on each of that importer's entries during the review period.

The Department's decision applies to all entries of subject merchandise produced and exported by Ta Chen, entered, or withdrawn from warehouse, for consumption on or after June 1, 1998 and before May 31, 1999. The Department will order the suspension of liquidation ended for all such entries and will instruct Customs to release any cash deposits or bonds.

Cash Deposit Requirements

The following deposit requirements will be effective upon publication of this notice of final results of administrative review for all shipments of certain SSBWPF from Taiwan entered, or withdrawn from warehouse, for consumption on or after the date of publication, as provided by section 751(a)(1) of the Act: (1) The cash deposit rate for Ta Chen will be the rate shown above; (2) for previously reviewed or investigated companies not listed above, the cash deposit rate will continue to be the company-specific rate published for the most recent period; (3) if the exporter is not a firm covered in this review, a prior review, or the original less-than-fair-value (LTFV) investigation, but the manufacturer is, the cash deposit rate will be the rate established for the most recent period for the manufacturer of the merchandise; and (4) if neither the exporter nor the manufacturer is a firm covered in these or any previous reviews conducted by the Department, the cash deposit rate will be the “all others” rate, which is 51.01 percent.

The cash deposit rate has been determined on the basis of the selling price to the first unaffiliated U.S. customer. These deposit requirements shall remain in effect until publication of the final results of the next administrative review.

This notice also serves as the only reminder to parties subject to administrative protective orders (“APO”) of their responsibility concerning the return or destruction of proprietary information disclosed under APO in accordance with 19 CFR 351.305 or conversion to judicial protective order is hereby requested. Failure to comply with the regulations and terms of an APO is a violation which is subject to sanction.

We are issuing and publishing this determination and notice in accordance with sections 751(a)(1) and 777(i) of the Act.

Dated: December 15, 2000.
Troy H. Cribb,
Assistant Secretary for Import Administration.

Appendix

Changes Since The Preliminary Results

1. Reimbursement of Antidumping Duties

2. Treatment of U.S. Repacking Expense

3. Calculation of Constructed Export Price (“CEP”) Adjustments

4. Minor Corrections to Database from Verification

a. Foreign Inland Freight

b. Manufacturer

c. U.S. Warehousing Expense

d. U.S. Bank Charges

e. Ocean Freight and U.S. Brokerage Charges

f. U.S. Repacking Expense for Tampa Warehouse

5. Correction of Ministerial Errors in SAS Program

a. Reformatting of Entry Date

b. Definition of CEP Sales

Discussion of the Issues:

1. Resales of Purchased Fittings

2. CEP Profit Adjustment Calculation

3. Reclassification of Export Price Sales to CEP Sales

4. Short-Term Interest Rate Used in Calculation of U.S. Credit and Inventory Carrying Costs

5. U.S. Indirect Selling Expenses

6. Decision Not to Revoke the Order in Part

[FR Doc. 00-32980 Filed 12-26-00; 8:45 am]

BILLING CODE 3510-DS-P